DEPARTMENT OF JUSTICE

Antitrust Division

Notice Pursuant to the National Cooperative Research and Production Act of 1993—Countering Weapons of Mass Destuction

Notice is hereby given that, on August 6, 2018, pursuant to Section 6(a) of the National Cooperative Research and Production Act of 1993, 15 U.S.C. 4301 et seq. (“the Act”), Countering Weapons of Mass Destruction (“CWMD”) has filed written notifications simultaneously with the Attorney General and the Federal Trade Commission disclosing changes in its membership. The notifications were filed for the purpose of extending the Act's provisions limiting the recovery of antitrust plaintiffs to actual damages under specified circumstances. Specifically, Accenture Federal Services, Arlington, VA; Altamira Technologies Corp., McClean, VA; AppliedInfo Partners, Inc., Somerset, NJ; ASELL, LLC, Owings Mills, MD; Ashwin-Ushas Corporation, Holmdel, NJ; Avarint, LLC, Buffalo, NY; BioFire Defense, LLC, Salt Lake City, UT; Blackthorne Services Group, Hanover, MA; Blauer Manufacturing, Co., Boston, MA; Clear Scientific, LLC, Cambridge, MA; Convergence LLC, Bel Air, MD; CUBRC INC., Buffalo, NY; Deloitte Consulting, LLP, Arlington, VA; DetectaChem, LLC, Stafford, TX; EcoHealth Alliance, New York, NY; FEDITC, LLC, Rockville, MD; Forge AI, Cambridge, MA; General Dynamics Information Technology, Inc. (GDIT), Fairfax, VA; GSINS-EES JV LLC, Flemmington, NJ; Hassett and Willis Associates (HWC, Inc.), Washington, DC; InnovaPrep, LLC, Drexel, MO; ISOVAC Products, LLC, Romeoville, IL; L2 Defense, Edgewood, MD; Life Safety Systems, Inc., Santa Cruz, CA; Maxim Biomedical, Inc., Rockville, MD; MLT Systems LLC, Stafford, VA; MRE Technology Solutions, LLC, Annapolis, MD; Nano Terra, Inc., Cambridge, MA; Nevada Nanotech Systems, Sparks, NV; Nokomis, Inc., Chrleroi, PA; North Carolina State University (NC State University), Raleigh, NC; PAE NSS, Fredericksburg, VA; Persistent Systems, LLC, New York, NY; QinetiQ North America, Waltham, MA; QUASAR Federal Systems, San Diego, CA; Rapiscan Systems, Inc., Torrance, CA; Research Triangle Institute (RTI), Research Triangle Park, NC; RINI Technologies, Inc., Oviedo, FL; Saint- Gobain Performance Plastics, Solon, OH; Sensor Concepts & Applications, Inc., Glen Arm, MD; Summit Exercise and Training LLC, St. Petersburg, FL; TerraTracker, Inc., Livermore, CA; The University of Tennessee Knoxville, Knoxville, TN; Tier Tech International, Inc., McLean, VA; Veritech, LLC, Glendale, AZ; VITNI Corp., Hilo, HI; Xator Corporation, Reston, VA, have been added as parties to this venture.

Also, SigNet Technologies, Cary, NC, has withdrawn as a party to this venture.

No other changes have been made in either the membership or planned activity of the group research project. Membership in this group research project remains open, and CWMD intends to file additional written notifications disclosing all changes in membership.

On January 31, 2018, CWMD filed its original notification pursuant to Section 6(a) of the Act. The Department of Justice published a notice in the Federal Register pursuant to Section 6(b) of the Act on March 12, 2018 (83 FR 10750).

The last notification was filed with the Department on April 25, 2018. A notice was published in the Federal Register pursuant to Section 6(b) of the Act on May 30, 2018 (83 FR 24822).

Suzanne Morris,
Chief, Premerger and Division Statistics Unit, Antitrust Division.

[FR Doc. 2018-19072 Filed 8-31-18; 8:45 am]

BILLING CODE 4410-11-P